DEPARTMENT OF TRANSPORTATION

Federal Aviation Administration

14 CFR Part 71

[Airspace Docket No. 02-AEA-10]

Amendment of Class E Airspace, Durhamville, NY

AGENCY: Federal Aviation Administration (FAA), DOT.

ACTION: Final rule; request for comments.

SUMMARY: This action removes the description of the Class E airspace designated for Durhamville, NY. Kamp Airport has been closed and the Standard Instrument Approach Procedure (SIAP) for this airport has been cancelled. Class E airspace for Kamp Airport is no longer needed.

DATES: Effective date: November 28, 2002.

Comment Date: Comments must be received on or before October 1, 2002.

ADDRESSES: Send comments on the rule in triplicate to: Manager, Airspace Branch, AEA-520, Docket No. 02-AEA-10, FAA Eastern Region, 1 Aviation Plaza, Jamaica, NY 11434-4890.

The official docket may be examined in the Office of the Regional Counsel, AEA-7, FAA Eastern Region, 1 Aviation Plaza, Jamaica, NY 11434-4809; telephone: (718- 553-3255.

An informal docket may also be examined during normal business hours at the address listed above.

FOR FURTHER INFORMATION CONTACT: Mr. Francis Jordan, Airspace Specialist, Airspace Branch, AEA-520, Air Traffic Division, Eastern Region, Federal Aviation Administration, 1 Aviation Plaza, Jamaica, NY 11434-4809, telephone: (718) 553-4521.

SUPPLEMENTARY INFORMATION: Although this action is a final rule, which involves the amendment of the Class E airspace at Durhamville, NY, by removing that airspace designated for Kamp Airport, and was not preceded by notice and public procedure, comments are invited on the rule. This rule will become effective on the date specified in the DATES section. However, after the review of any comments and, if the FAA finds that further changes are appropriate, it will initiate rulemaking proceedings to extend the effective date or to attend the regulation.

Comments that provide the factual basis supporting the views and suggestions presented are particularly helpful in evaluating the effects of the rule, and in determining whether additional rulemaking is required. Comments are specifically invited on the overall regulatory, aeronautical, economic, environmental, and energy-related aspects of the rule which might suggest the need to modify the rule.

The Rule

This amendment to Part 71 of the Federal Aviation Regulations (14 CFR part 71) removes the description of the Class E airspace at Durhamville, NY, by removing that airspace designated for Kamp Airport. The airport has been closed and abandoned for aeronautical use. As a result the Durhamville, NY Class E airspace is no longer required for airspace safety. Class E airspace designations for airspace extending upward from 700 feet or more above the surface of the earth are published in paragraph 6005 of FAA Order 7400.9J, dated August 3, 2001, and effective September 16, 2001, which is incorporated by reference in 14 CFR 71.1. THe Class E airspace designation listed in this document will be published subsequently in the Order.

Under the circumstances presented, the FAA concludes that the more restrictive Class E airspace at Durhamville, NY is no longer supported and the flight rules pertinent to Class G airspace should apply. Accordingly, since this action merely reverts the Durhamville, NY, Class E airspace to Class G and has no significant impact on aircraft operations at Kamp airport, notice and public procedure under 5 U.S.C. 553(b) are unnecessary. Furthermore, to incorporate this change into the next section chart and avoid confusion on the part of pilots and to relieve restrictions that are no longer needed, I find that good cause exist, pursuant to 5 U.S.C. 553(d), for making this amendment effective as soon as possible.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporated by reference, Navigation (air).

Adoption of the Amendment

In consideration of the foregoing, the Federal Aviation Administration amends 14 CFR Part 71 as follows:

PART 71—[Amended]

1. The authority citation for Part 71 continues to read as follows:

Authority: 49 U.S.C. 106(g), 40103, 40113, 40120; E.O. 10854; 24 FR 9565, 3 CFR, 1959-1963 Comp., p. 389.

§ 71.1 [Amended]

2. The incorporation by reference in 14 CFR 71.1 of the Federal Aviation Administration Order 7400.9J, Airspace Designations and Reporting Points, dated August 3, 2001 and effective September 16, 2001, is amended as follows:

Paragraph 6005 Class E airspace areas extending from 700 feet or more above the surface of the earth.

* * * * *

AEA NY E5 Durhamville, NY [Removed]

* * * * *

Issued in Jamaica, New York on August 20, 2002.
John G. McCartney,
Acting Assistant Manager, Air Traffic Division, Eastern Region.

[FR Doc. 02-22498 Filed 9-3-02; 8:45 am]

BILLING CODE 4910-13-M